DEPARTMENT OF TRANSPORTATION

Federal Aviation Administration

14 CFR Part 39

[Docket No. FAA-2005-21240; Directorate Identifier 2005-NM-104-AD; Amendment 39-14130; AD 2005-12-14]

RIN 2120-AA64

Airworthiness Directives; Boeing Model 767-200, -300, and -400ER Series Airplanes Equipped With Door-Mounted Escape Slides

AGENCY: Federal Aviation Administration (FAA), Department of Transportation (DOT).

ACTION: Final rule; request for comments.

SUMMARY: The FAA is adopting a new airworthiness directive (AD) for certain Boeing Model 767-200, -300, and -400ER series airplanes. This AD requires an inspection to determine if the door-mounted escape slide/rafts have certain part numbers. For those door-mounted escape slide/rafts having certain part numbers, this AD requires an inspection for excessive tension of the firing cable, and procedures for providing slack in the firing cable or rerouting the firing cable if necessary. This AD is prompted by reports of uncommanded inflation inside the airplane of a door-mounted escape slide/raft located in the passenger compartment. We are issuing this AD to prevent injury to maintenance personnel, passengers, and crew during otherwise normal operating conditions and to prevent interference with evacuation of the airplane during an emergency, due to uncommanded inflation of a door-mounted escape slide/raft.

DATES: Effective June 30, 2005.

The incorporation by reference of certain publications listed in the AD is approved by the Director of the Federal Register as of June 30, 2005.

We must receive comments on this AD by August 15, 2005.

ADDRESSES: Use one of the following addresses to submit comments on this AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street SW., Nassif Building, room PL-401, Washington, DC 20590.

• Fax: (202) 493-2251.

• Hand Delivery: Room PL-401 on the plaza level of the Nassif Building, 400 Seventh Street SW., Washington, DC, between 9 a.m. and 5 p.m., Monday through Friday, except Federal holidays.

For service information identified in this AD, contact Boeing Commercial Airplanes, PO Box 3707, Seattle, Washington 98124-2207; or Goodrich Aircraft Interior Products, 3414 South 5th Street, Phoenix, Arizona 85040, as applicable.

You can examine the contents of this AD docket on the Internet at http://dms.dot.gov, or in person at the Docket Management Facility, U.S. Department of Transportation, 400 Seventh Street SW., room PL-401, on the plaza level of the Nassif Building, Washington, DC. This docket number is FAA-2005-21240; the directorate identifier for this docket is 2005-NM-104-AD.

Examining the Dockets

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System (DMS) receives them.

FOR FURTHER INFORMATION CONTACT: Susan Rosanske, Aerospace Engineer, Cabin Safety and Environmental Systems Branch, ANM-150S, FAA, Seattle Aircraft Certification Office, 1601 Lind Avenue, SW., Renton, Washington 98055-4056; telephone (425) 917-6448; fax (425) 917-6590.

SUPPLEMENTARY INFORMATION: We have received a report indicating that three cases of uncommanded inflation of door-mounted escape slide/rafts occurred on Boeing Model 767-300 series airplanes. In one case, the uncommanded inflation of the door-mounted escape slide/raft resulted in injury to a member of the cabin crew. In the other two incidents, damage occurred to the lavatory, ceiling panels, door bustles, and the sidewalls. Inspections by the airplane manufacturer and the escape slide/raft supplier of the factory packs and overhauled packs revealed variability in the slack/tension condition of the firing cable of the slide/rafts. The slide/rafts are designed with slack in the firing cable. Investigation revealed that a “tight” (excessive tension) firing cable, in combination with changes that occur in the pack as the result of the in-service environment, could result in the tension on the firing cable increasing and activating the regulator valve. This condition, if not corrected, could result in injury to maintenance personnel, passengers, and crew during otherwise normal operating conditions and could result in interference with evacuation of the airplane during an emergency, due to uncommanded inflation inside the airplane of a door-mounted escape slide/raft.

Relevant Service Information

We have reviewed Boeing Alert Service Bulletin (ASB) 767-25A0390, dated May 13, 2005. The ASB describes procedures for removing the cover (bustle) of the door-mounted escape slides/rafts, and performing a tension check to determine if there is excessive tension of the firing cable of the escape slides/rafts. Additionally, the ASB describes procedures for removing excessive tension of the firing cable by providing necessary slack in the firing cable, or removing the slide and rerouting the firing cable if necessary. The ASB also specifies that a general visual inspection or a records check may be accomplished to determine if certain Goodrich door-mounted escape slide/rafts are installed.

The ASB refers to Goodrich Alert Service Bulletin 5A3294/5A3295-25A356, dated May 11, 2005, as an additional source of service information.

Goodrich has also issued the following packing instructions for the slide/rafts: Goodrich Packing Instructions, Evacuation Slide/Raft, Document 501636, Revision G, dated May 16, 2005; Goodrich Packing Instructions, Evacuation Slide/Raft, LH, Document 501637, Revision E, dated May 16, 2005; and Goodrich Packing Instructions, Evacuation Slide/Raft, RH, Document 501638, Revision D, dated May 16, 2005.

FAA's Determination and Requirements of This AD

The unsafe condition described previously is likely to exist or develop on other airplanes of the same type design. Therefore, we are issuing this AD to prevent injury to maintenance personnel, passengers, and crew during otherwise normal operating conditions and to prevent interference with evacuation of the airplane during an emergency, due to uncommanded inflation of a door-mounted escape slide/raft. This AD requires accomplishing the actions specified in the service information described previously.

Interim Action

This is considered to be interim action. The manufacturer has advised that it currently is developing a modification that will address the unsafe condition addressed by this AD. Once this modification is developed, approved, and available, we may consider additional rulemaking.

FAA's Determination of the Effective Date

An unsafe condition exists that requires the immediate adoption of this AD; therefore, providing notice and opportunity for public comment before the AD is issued is impracticable, and good cause exists to make this AD effective in less than 30 days.

Comments Invited

This AD is a final rule that involves requirements that affect flight safety and was not preceded by notice and an opportunity for public comment; however, we invite you to submit any relevant written data, views, or arguments regarding this AD. Send your comments to an address listed under ADDRESSES. Include “Docket No. FAA-2005-21240; Directorate Identifier 2005-NM-104-AD” at the beginning of your comments. We specifically invite comments on the overall regulatory, economic, environmental, and energy aspects of the AD. We will consider all comments received by the closing date and may amend the AD in light of those comments.

We will post all comments we receive, without change, to http://dms.dot.gov, including any personal information you provide. We will also post a report summarizing each substantive verbal contact with FAA personnel concerning this AD. Using the search function of our docket web site, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2005-12-14 Boeing: Amendment 39-14130. Docket No. FAA-2005-21240; Directorate Identifier 2005-NM-104-AD.

Effective Date

(a) This AD becomes effective June 30, 2005.

Affected ADs

(b) None.

Applicability

(c) This AD applies to Boeing Model 767-200, -300, and -400ER series airplanes; certificated in any category; equipped with door-mounted escape slide/rafts.

Unsafe Condition

(d) This AD was prompted by reports of uncommanded inflation inside the airplane of a door-mounted escape slide/raft located in the passenger compartment. The FAA is issuing this AD to prevent injury to maintenance personnel, passengers, and crew during otherwise normal operating conditions and to prevent interference with evacuation of the airplane during an emergency, due to uncommanded inflation of the airplane of a door-mounted escape slide/raft.

Compliance

(e) You are responsible for having the actions required by this AD performed within the compliance times specified, unless the actions have already been done.

Inspection for Part Numbers (P/Ns)

(f) Within 30 days after the effective date of this AD, accomplish the actions in either paragraph (f)(1) or (f)(2) of this AD.

(1) Perform a one-time inspection to determine if any Goodrich door-mounted escape slide/raft having P/N 5A3294-1, 5A3294-2, 5A3295-1, or 5A3295-3 is installed. If no slide/raft having any of those P/Ns is installed, no further action is required by this paragraph, except for the requirements of paragraph (j) of this AD.

(2) Perform a one-time check of the airplane maintenance records to determine if any Goodrich door-mounted escape slide/raft having P/N 5A3294-1, 5A3294-2, 5A3295-1, or 5A3295-3 is installed. If it can be conclusively determined from the airplane maintenance records that no slide/raft having any of those P/Ns is installed, no further action is required by this AD, except for the requirements of paragraph (j) of this AD.

Inspection for Excessive Tension on the Firing Cable

(g) If any door-mounted escape slide/raft with any P/N specified in paragraph (f) of this AD is installed: Within 30 days after the effective date of this AD, perform a tension check on the firing cable of the slide/raft, in accordance with Boeing Alert Service Bulletin (ASB) 767-25A0390, dated May 13, 2005. If no excessive tension is detected, no further action is required by this AD, except for the requirements of paragraph (j) of this AD.

Note 1: Boeing ASB 767-25A0390, dated May 13, 2005, references Goodrich ASB 5A3294/5A3295-25A356, dated May 11, 2005, as an additional source of service information.

Corrective Action for Excessive Tension on the Firing Cable

(h) If any excessive tension of the firing cable is detected, before further flight, do the applicable corrective actions; in accordance with the Boeing ASB 767-25A0390, dated May 13, 2005.

Previous Accomplishment

(i) Inspections of the firing cables for excessive tension in accordance with Boeing ASB 767-25A0390, dated May 13, 2005, that were accomplished before the effective date of this AD are acceptable for compliance with the requirements of paragraph (g) of this AD, provided that any applicable corrective was completed.

Parts Installation

(j) As of the effective date of this AD, no person may install on any airplane any Goodrich door-mounted escape slide/raft having P/N 5A3294-1, 5A3294-2, 5A3295-1, or 5A3295-3, unless the tension of the firing cable has been checked and the applicable corrective action completed in accordance with Boeing ASB 767-25A0390, dated May 13, 2005, or the escape slide/raft has been repacked in accordance with Goodrich Packing Instructions, Evacuation Slide/Raft, Document 501636, Revision G, dated May 16, 2005; Goodrich Packing Instructions, Evacuation Slide/Raft, LH, Document 501637, Revision E, dated May 16, 2005; or Goodrich Packing Instructions, Evacuation Slide/Raft, RH, Document 501638, Revision D, dated May 16, 2005; as applicable.

Alternative Methods of Compliance (AMOCs)

(k) The Manager, Seattle Aircraft Certification Office (ACO), FAA, has the authority to approve AMOCs for this AD, if requested in accordance with the procedures found in 14 CFR 39.19.

Material Incorporated by Reference

(l) You must use Boeing ASB 767-25A0390, dated May 13, 2005, to perform the actions that are required by this AD, unless the AD specifies otherwise. The Director of the Federal Register approves the incorporation by reference of these documents in accordance with 5 U.S.C. 552(a) and 1 CFR part 51. To get copies of the service information, contact Boeing Commercial Airplanes, PO Box 3707, Seattle, Washington 98124-2207; or Goodrich Aircraft Interior Products, 3414 South 5th Street, Phoenix, Arizona 85040, as applicable. To view the AD docket, go to the Docket Management Facility, U.S. Department of Transportation, 400 Seventh Street SW., room PL-401, Nassif Building, Washington, DC. To review copies of the service information, go to the National Archives and Records Administration (NARA). For information on the availability of this material at the NARA, call (202) 741-6030, or go to http://www.archives.gov/federal_register/code_of_federal_regulations/ibr_locations.html.

Issued in Renton, Washington, on June 7, 2005.
Michael J. Kaszycki,
Acting Manager, Transport Airplane Directorate, Aircraft Certification Service.

[FR Doc. 05-11696 Filed 6-14-05; 8:45 am]

BILLING CODE 4910-13-P